DEPARTMENT OF ENERGY

Federal Energy Regulatory Commission

[Docket No. CP05-92-000]

Liberty Gas Storage, LLC; Notice of Site Visit for the Proposed Liberty Gas Storage Project

May 12, 2005.

The staff of the Federal Energy Regulatory Commission is issuing this notice to announce the date and location of a site visit for the proposed Liberty Gas Storage Project in Calcasieu and Beauregard Parishes, Louisiana. The project consists of two natural gas storage caverns; four injection and withdrawal wells, two compressor stations, approximately 1.3 miles of 20-inch-diameter pipeline, approximately 23.3 miles of 30-inch-diameter pipeline with associated facilities and four meter/regulator stations.

The site visit will be held on Wednesday May 18, 2005, starting at 7:30 a.m. (CST) from the Best Suites, 401 Lakeshore Drive, Lake Charles, Louisiana. The site visit will include an aerial over flight followed by a ground inspection of the project. Anyone interested in participating in the site visit may attend, but all participants must provide their own transportation.

This event is posted on the Commission's calendar located at http://www.ferc.gov/EventCalendar/EventsList.aspx along with other related information. For additional information and site visit itinerary, please contact the Commission's Office of External Affairs at 202-502-8004.

Magalie R. Salas,
Secretary.

[FR Doc. E5-2541 Filed 5-19-05; 8:45 am]

BILLING CODE 6717-01-P